NUCLEAR REGULATORY COMMISSION

[Docket No. 50-333]

Entergy Nuclear Fitzpatrick, LLC, and Entergy Nuclear Operations, Inc.; The James A. Fitzpatrick Nuclear Power Plant; Notice of Issuance of Renewed Facility Operating License No. DPR-59 for an Additional 20-Year Period Record of Decision

Notice is hereby given that the U.S. Nuclear Regulatory Commission (the Commission) has issued Renewed Facility Operating License No. DPR-59 to the Entergy Nuclear FitzPatrick, LLC and Entergy Nuclear Operations, Inc. (the licensee), the operator of the James A. FitzPatrick Nuclear Power Plant (JAFNPP). Renewed Facility Operating License No. DPR-59 authorizes operation of JAFNPP, by the licensee at reactor core power levels not in excess of 2536 megawatts thermal (881 megawatts electric), in accordance with the provisions of the JAFNPP renewed license and its Technical Specifications.

This notice also serves as the record of decision for the renewal of Facility Operating License No. DPR-59 for JAFNPP, consistent with Title 10 of the Code of Federal Regulations Section 51.103 (10 CFR 51.103). As discussed in the Final Supplemental Environmental Impact Statement (FSEIS) for JAFNPP, dated January 2008, the Commission considered a range of reasonable alternatives that included generation from coal, natural gas, oil, wind, solar, hydropower, geothermal, wood waste, municipal solid waste, other biomass-derived fuels, delayed retirement, utility-sponsored conservation, a combination of alternatives, and a no-action alternative. The factors considered in the record of decision can be found in the supplemental environmental impact statement (SEIS) for License Renewal, Supplement 31 regarding James A. FitzPatrick Nuclear Power Plant.

JAFNPP is a boiling water reactor located along the shore of Lake Ontario, Oswego County, New York. The site is approximately seven miles north-northeast of the city of Oswego. The application for the renewed licenses complied with the standards and requirements of the Atomic Energy Act of 1954, as amended (the Act), and the Commission's regulations. As required by the Act and the Commission's regulations in 10 CFR Chapter I, the Commission has made appropriate findings, which are set forth in the license.

Prior public notice of the action involving the proposed issuance of the renewed license and of an opportunity for a hearing regarding the proposed issuance of the renewed license was published in the Federal Register on September 20, 2006 (71 FR 55032). For further details with respect to this action, see (1) The Entergy Nuclear FitzPatrick, LLC and Entergy Nuclear Operations, Inc., license renewal application for James A. FitzPatrick Nuclear Power Plant dated July 31, 2006, as supplemented by letters dated through November 5, 2007; (2) the Commission's safety evaluation report (NUREG-1905), published in April 2008; (3) the licensee's updated safety analysis report; and (4) the Commission's final environmental impact statement (NUREG-1437, Supplement 31), published in January 2008. These documents are available at the NRC Public Document Room, One White Flint North, 11555 Rockville Pike, Rockville, Maryland 20852, and can be viewed from the NRC Public Electronic Reading Room at http://www.nrc.gov/reading-rm/adams.html.

Copies of Renewed Facility Operating License No. DPR-59 may be obtained by writing to the U.S. Nuclear Regulatory Commission, Washington, DC 20555-0001, Attention: Director, Division of License Renewal. Copies of the James A. FitzPatrick Nuclear Power Plant, Safety Evaluation Report (NUREG-1905) and the Final Environmental Impact Statement (NUREG-1437, Supplement 31) may be purchased from the National Technical Information Service, U.S. Department of Commerce, Springfield, VA 22161-0002 (http://www.ntis.gov), 703-605-6000, or the Superintendent of Documents, U.S. Government Printing Office, P.O. Box 371954, Pittsburgh, PA 15250-7954 (http://www.gpoaccess.gov), 202-512-1800. All orders should clearly identify the NRC publication number and the requester's Government Printing Office deposit account number or a VISA or MasterCard number and expiration date.

Dated at Rockville, Maryland, this 8th day of September 2008.
For the Nuclear Regulatory Commission.
Brian E. Holian,
Director, Division of License Renewal, Office of Nuclear Reactor Regulation.

[FR Doc. E8-21430 Filed 9-12-08; 8:45 am]

BILLING CODE 7590-01-P